DEPARTMENT OF TRANSPORTATION

Federal Aviation Administration

14 CFR Part 71

[Docket No. FAA-2020-0759; Airspace Docket No. 20-ACE-20]

RIN 2120-AA66

Proposed Amendment of Class D and Class E Airspace and Establishment of Class E Airspace; Fort Riley and Manhattan, KS

AGENCY: Federal Aviation Administration (FAA), DOT.

ACTION: Notice of proposed rulemaking (NPRM).

SUMMARY: This action proposes to amend the Class D and Class E airspace at Marshall AAF, Fort Riley, KS, and Manhattan Regional Airport, Manhattan, KS, and establish Class E airspace extending upward from 700 feet above the surface at Marshall AAF and Freeman Field, Junction City, KS. The FAA is proposing this action as the result of airspace reviews caused by the decommissioning of the Calvary and McDowell Creek non-directional beacons (NDBs). The names and geographic coordinates of airports and navigational aids would also be updated to coincide with the FAA's aeronautical database.

DATES: Comments must be received on or before October 9, 2020.

ADDRESSES: Send comments on this proposal to the U.S. Department of Transportation, Docket Operations, West Building Ground Floor, Room W12-140, 1200 New Jersey Avenue SE, Washington, DC 20590; telephone (202) 366-9826, or (800) 647-5527. You must identify FAA Docket No. FAA-2020-0759/Airspace Docket No. 20-ACE-20 at the beginning of your comments. You may also submit comments through the internet at https://www.regulations.gov. You may review the public docket containing the proposal, any comments received, and any final disposition in person in the Dockets Office between 9:00 a.m. and 5:00 p.m., Monday through Friday, except federal holidays.

FAA Order 7400.11D, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend the Class D airspace, Class E surface airspace, Class E airspace area designated as an extension to Class D and Class E surface airspace, and Class E airspace extending upward from 700 feet above the surface at Manhattan Regional Airport, Manhattan, KS; amend the Class D and Class E surface airspace at Marshall AAF, Fort Riley, KS; and establish Class E airspace extending upward from 700 feet above the surface at Marshall AAF and Freeman Field, Junction City, KS, to support instrument flight rule operations at these airports.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2020-0759/Airspace Docket No. 20-ACE-20.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Federal Aviation Administration, Air Traffic Organization, Central Service Center, Operations Support Group, 10101 Hillwood Parkway, Fort Worth, TX 76177.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

FAA Order 7400.11, Airspace Designations and Reporting Points, is published yearly and effective on September 15.

The Proposal

The FAA is proposing an amendment to Title 14 Code of Federal Regulations (14 CFR) part 71 by:

Amending the Class D airspace to within a 3.9-mile radius (increased from a 3.7-mile radius) of Marshall AAF, Fort Riley, KS; adding an extension 1.1 miles each side of the 216° radial from the Fort Riley VOR extending from the 3.9-mile radius to 4.7 miles southwest of the airport; adding an extension 1 mile each side of the 220° bearing from the airport extending from the 3.9-mile radius to 4 miles southwest of the airport; updating the name (previously Marshall Army Airfield) and geographic coordinates of the airport to coincide with the FAA's aeronautical database; removing the cities associated with the airports to comply with changes to FAA Order 7400.2M, Procedures for Handling Airspace Matters; and replacing the outdated term “Airport/Facility Directory” with “Chart Supplement”;

Amending the Class D airspace to within a 4.3-mile radius (increased from a 4.2-mile radius) of Manhattan Regional Airport, Manhattan, KS; removing the Manhattan VOR/DME and McDowell Creek NDB from the airspace legal description as they are not required; updating the name (previously Manhattan Municipal Airport) and geographic coordinates of the airport to coincide with the FAA's aeronautical database; and replacing the outdated term “Airport/Facility Directory” with “Chart Supplement”;

Amending the Class E surface area to within a 3.9-mile radius (increased from a 3.7-mile radius) of Marshall AAF; removing the current extension from the Fort Riley VOR, as it is no longer required; removing the Calvary NDB and associated extension from the airspace legal description; adding an extension 1.1 miles each side of the 216° radial from the Fort Riley VOR extending from the 3.9-mile radius to 4.7 miles southwest of the airport; adding an extension 1 mile each side of the 220° bearing from the airport extending from the 3.9-mile radius to 4 miles southwest of the airport; updating the name (previously Marshall Army Airfield) and geographic coordinates of the airport to coincide with the FAA's aeronautical database; removing the cities associated with the airports to comply with changes to FAA Order 7400.2M; and replacing the outdated term “Airport/Facility Directory” with “Chart Supplement”;

Amending the Class E surface area to within a 4.3-mile radius (increased from a 4.2-mile radius) of Manhattan Regional Airport; updating the name (previously Manhattan Municipal Airport) and geographic coordinates of the airport to coincide with the FAA's aeronautical database; and adding part-time verbiage to the airspace legal description that was previously omitted;

Amending the Class E airspace area designated as an extension to Class D and Class E surface airspace at Manhattan Regional Airport by removing the McDowell NDB and associated extensions from the airspace legal description; removing the extension to the southeast of the VOR/DME, as it is no longer needed; adding an extension within 1 mile each side of the 040° bearing from the airport extending from the 4.3-mile radius of the airport to 4.4 miles northeast of the airport; adding an extension 1.3 miles each side of the 042° radial from the Manhattan VOR/DME extending from the 4.3-mile radius of the airport to 5.2 miles northeast of the airport; adding an extension 2.4 miles each side of the 211° radial from the Manhattan VOR/DME extending from the 4.3-mile radius of the airport to 7 miles southwest of the Manhattan VOR/DME; adding an extension 1 mile each side of the 220° bearing from the Manhattan Regional: RWY 03-LOC extending from the 4.3-mile radius of the airport to 4.5 miles southwest of the airport; and updating the name (previously Manhattan Municipal Airport) and geographic coordinates of the airport to coincide with the FAA's aeronautical database;

Establishing Class E airspace extending upward from 700 feet above the surface within a 6.4-mile radius of Marshall AAF; within 1.1 miles each side of the 216° radial of the Fort Riley VOR extending from the 6.4-mile radius of Marshall AAF to 6.5 miles southwest of the Marshall AAF; and within a 6.4-mile radius of Freeman Field, Junction City, KS, excluding that airspace within Restricted Areas R-3602A and R-3602B;

And amending the Class E airspace extending upward from 700 feet above the surface within a 6.8-mile radius (increased from a 6.7-mile radius) of Manhattan Regional Airport; removing the McDowell NDB an associated extensions from the airspace legal description; removing the extensions southeast of the VOR/DME, as they are no longer required; removing the HATAN OM and Manhattan Municipal Airport ILS and associated extensions, as they are no longer required; adding an extension 4 miles each side of the 040° bearing from the airport extending from the 6.8-mile radius of the airport to 10.6 miles northeast of the airport; amending the extension northeast of the VOR/DME to within 3.2 miles (decreased from 3.5 miles) each side of the 042° (previously 046°) radial from the Manhattan VOR/DME extending from the 6.8-mile (increased from 6.7-mile) radius of the airport to 7 miles (decreased from 9.5 miles) northeast of the Manhattan VOR/DME (previously VOR/DME); adding an extension 2.4 miles each side of the 211° radial from the Manhattan VOR/DME extending from the 6.8-mile radius of the airport to 7 miles southwest of the Manhattan VOR/DME; and updating the name (previously Manhattan Municipal Airport) and geographic coordinates of the airport to coincide with the FAA's aeronautical database.

This action is due to airspace reviews caused by the decommissioning of the Calvary and McDowell Creek NDBs, which provided navigational information to the instrument procedures at these airports.

Class D and E airspace designations are published in paragraph 5000, 6002, 6004, and 6005, respectively, of FAA Order 7400.11D, dated August 8, 2019, and effective September 15, 2019, which is incorporated by reference in 14 CFR 71.1. The Class D and E airspace designation listed in this document will be published subsequently in the Order.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 5000 Class D Airspace.

* * * * *

ACE KS D Fort Riley, KS [Amended]

Marshall AAF, KS

(Lat. 39°03′10″ N, long. 96°45′52″ W)

Freeman Field, KS

(Lat. 39°02′36″ N, long. 96°50′36″ W)

Fort Riley VOR

(Lat. 38°58′13″ N, long. 96°15′40″ W)

That airspace extending upward from the surface to and including 3,600 feet MSL within a 3.9-mile radius of the Marshall AAF, and within 1.1 miles each side of the 216° radial from the Fort Riley VOR extending from the 3.9-mile radius of Marshall AAF to 4.7 miles southwest of Marshall AAF, and within 1 mile each side of the 220° bearing from Marshall AAF extending from the 3.9 mile radius of Marshall AAF to 4 miles southwest of Marshall AAF excluding that airspace within Restricted Area R-3602B and excluding that airspace within a 1-mile radius of Freeman Field. This Class D airspace area is effective during the specific dates and times established in advance by a Notice to Airmen. The effective date and time will thereafter be continuously published in the Chart Supplement.

* * * * *

ACE KS D Manhattan, KS [Amended]

Manhattan Regional Airport, KS

(Lat. 39°08′28″ N, long. 96°40′19″ W)

That airspace extending upward from the surface to and including 3,600 feet MSL within a 4.3-mile radius of Manhattan Regional Airport excluding that airspace within the Fort Riley, KS, Class D airspace and Class E surface airspace areas and excluding that airspace within Restricted Area R-3602B. This Class D airspace area is effective during the specific dates and times established in advanced by a Notice to Airmen. The effective date and time will thereafter be continuously published in the Chart Supplement.

Paragraph 6002 Class E Airspace Areas Designated as a Surface Area.

* * * * *

ACE KS E2 Fort Riley, KS [Amended]

Marshall AAF, KS

(Lat. 39°03′10″ N, long. 96°45′52″ W)

Freeman Field, KS

(Lat. 39°02′36″ N, long. 96°50′36″ W)

Fort Riley VOR

(Lat. 38°58′13″ N, long. 96°15′40″ W)

That airspace extending upward from the surface within a 3.9-mile radius of the Marshall AAF, and within 1.1 miles each side of the 216° radial from the Fort Riley VOR extending from the 3.9-mile radius of Marshall AAF to 4.7 miles southwest of Marshall AAF, and within 1 mile each side of the 220° bearing from Marshall AAF extending from the 3.9 mile radius of Marshall AAF to 4 miles southwest of Marshall AAF excluding that airspace within Restricted Area R-3602B and excluding that airspace within a 1-mile radius of Freeman Field. This Class E airspace area is effective during the specific dates and times established in advance by a Notice to Airmen. The effective date and time will thereafter be continuously published in the Chart Supplement.

* * * * *

ACE KS E2 Manhattan, KS [Amended]

Manhattan Regional Airport, KS

(Lat. 39°08′28″ N, long. 96°40′19″ W)

That airspace extending upward from the surface within a 4.3-mile radius of Manhattan Regional Airport excluding that airspace within the Fort Riley, KS, Class D airspace and Class E surface airspace areas and excluding that airspace within Restricted Area R-3602B. This Class E airspace area is effective during the specific dates and times established in advanced by a Notice to Airmen. The effective date and time will thereafter be continuously published in the Chart Supplement.

Paragraph 6004 Class E Airspace Areas Designated as an Extension to a Class D or Class E Surface Area.

* * * * *

ACE KS E4 Manhattan, KS [Amended]

Manhattan Regional Airport, KS

(Lat. 39°08′28″ N, long. 96°40′19″ W)

Manhattan VOR/DME

(Lat. 39°08′44″ N, long. 96°40′07″ W)

Manhattan Regional: RWY 03-LOC

(Lat. 39°08′55″ N, long. 96°39′43″ W)

That airspace extending upward from the surface within 1 mile each side of the 040° bearing from the Manhattan Regional Airport extending from the 4.3-mile radius of the airport to 4.4-miles northeast of the airport, and within 1.3 miles each side of the 042° radial from the Manhattan VOR/DME extending from the 4.3-mile radius of the Manhattan Regional Airport to 5.3 miles northeast of the airport; and within 2.4 miles each side of the 211° radial from the Manhattan VOR/DME extending from the 4.3-mile radius of the Manhattan Regional Airport to 7 miles southwest of the Manhattan VOR/DME; and within 1 mile each side of the 220° bearing from the Manhattan Regional: RWY 03-LOC extending from the 4.3-mile radius of the Manhattan Regional Airport to 4.5 miles southwest of the airport excluding that airspace within Restricted Area R-3602B.

Paragraph 6005 Class E Airspace Areas Extending Upward From 700 Feet or More Above the Surface of the Earth.

* * * * *

ACE IA E5 Fort Riley, KS [Establish]

Marshall AAF, KS

(Lat. 39°03′10″ N, long. 96°45′52″ W)

Freeman Field, KS

(Lat. 39°02′36″ N, long. 96°50′36″ W)

Fort Riley VOR

(Lat. 38°58′13″ N, long. 96°15′40″ W)

That airspace extending upward from 700 feet above the surface within a 6.4-mile radius of Marshall AAF, and within 1.1 miles each side of the 216° radial from the Fort Riley VOR extending from the 6.4-mile radius of the Marshall AAF to 6.5 miles southwest of Marshall AAF, and within A 6.4-mile radius of Freeman Field excluding that airspace within Restricted Areas R-3602A and R-3602B.

* * * * *

ACE KS E5 Manhattan, KS [Amended]

Manhattan Regional Airport, KS

(Lat. 39°08′28″ N, long. 96°40′19″ W)

Manhattan VOR/DME

(Lat. 39°08′44″ N, long. 96°40′07″ W)

That airspace extending upward from 700 feet above the surface within a 6.8-mile radius of the Manhattan Regional Airport, and within 4 miles each side of the 040° bearing from the Manhattan Regional Airport extending from the 6.8-mile radius of the airport to 10.6 miles northeast of the airport, and within 3.2 miles each side of the 042° radial from the Manhattan VOR/DME extending from the 6.8-mile radius of the Manhattan Regional Airport to 7 miles northeast of the Manhattan VOR/DME, and within 2.4 miles each side of the 211° radial from the Manhattan VOR/DME extending from the 6.8-mile radius of the Manhattan Regional Airport to 7 miles southwest of the Manhattan VOR/DME excluding that airspace within Restricted Areas R-3602A and R-3602B.

Issued in Fort Worth, Texas, on August 20, 2020.
Martin A. Skinner,
Acting Manager, Operations Support Group, ATO Central Service Center.

[FR Doc. 2020-18601 Filed 8-24-20; 8:45 am]

BILLING CODE 4910-13-P